DEPARTMENT OF TRANSPORTATION

Research and Special Programs Administration

Pipeline Safety: Required Submission of Data to the National Pipeline Mapping System Under the Pipeline Safety Improvement Act of 2002

AGENCY: Research and Special Programs Administration (RSPA), DOT.

ACTION: Notice; issuance of advisory bulletin.

SUMMARY: The Office of Pipeline Safety (OPS) is issuing this advisory bulletin to owners and operators of natural gas transmission and hazardous liquid pipeline systems. The purpose of this bulletin is to advise pipeline operators of their responsibilities in complying with the Pipeline Safety Improvement Act of 2002. Specifically, this bulletin indicates the process for making new submissions of geospatial and operator contact information, updating previous submissions to the National Pipeline Mapping System (NPMS), and providing future submissions.

FOR FURTHER INFORMATION CONTACT: Sam Hall, (202) 493-0591; or by email, samuel.hall@rspa.dot.gov. Steve Fischer, (202) 366-6267; or by email at steven.fischer@rspa.dot.gov. This document can be viewed at the OPS home page at http://ops.dot.gov/new.htm. Additional information about the NPMS and the “National Pipeline Mapping System Standards for Pipeline and Liquefied Natural Gas Operator Submissions” can be found at http://www.npms.rspa.dot.gov.

SUPPLEMENTARY INFORMATION:

I. Background

The National Pipeline Mapping System (NPMS) is a geographic information system (GIS) database that contains the locations and selected attributes of hazardous liquid and natural gas transmission pipelines, break-out tanks, and liquefied natural gas (LNG) facilities operating in onshore and DOT jurisdictional offshore territories of the United States. The NPMS was developed as a joint effort between the U.S. Department of Transportation, Research and Special Programs Administration's OPS, other Federal and State agencies, and the pipeline industry. The NPMS originally consisted of pipeline and LNG facility data voluntarily submitted by pipeline operators. The data collected for the NPMS is necessary for regulatory oversight and for monitoring the security of the pipelines. Therefore, public access to the data is limited.

The Pipeline Safety Improvement Act of 2002 (Pub. L. 107-355), 49 U.S.C. 60132, “National Pipeline Mapping System,” enacted on December 17, 2002, requires the following:

(a) Information to be Provided—Not later than six months after the date of enactment of this section, the operator of a pipeline facility (except distribution lines and gathering lines) shall provide to the Secretary of Transportation the following information with respect to the facility:

(1) Geospatial data appropriate for use in the National Pipeline Mapping System or data in a format that can be readily converted to geospatial data.

(2) The name and address of the person with primary operational control to be identified as its operator for purposes of this chapter.

(3) A means for a member of the public to contact the operator for additional information about the pipeline facilities it operates.

(b) Updates—A person providing information under subsection (a) shall provide to the Secretary updates of the information to reflect changes in the pipeline facility owned or operated by the person and as otherwise required by the Secretary.

In complying with this statutory requirement, please do the following:

Subsection (a): Information To Be Provided—Submit all pipeline data and contact information in accordance with the guidelines set forth in the NPMS operator standards document entitled “National Pipeline Mapping System Standards for Pipeline and Liquefied Natural Gas Operator Submissions” dated 2003. A complete data submission includes the geospatial data, attribute data, and metadata for all liquefied natural gas (LNG) and hazardous liquid and natural gas transmission pipeline systems operated by a company. The standards document is available for download from the NPMS website at http://www.npms.rspa.dot.gov/submissions/standards.htm.

Subsection (a)(1): If a complete data submission was made to the NPMS prior to December 17, 2001, and any pipeline system modifications have occurred since the last submission, submit complete data to the NPMS by June 17, 2003. If a complete data submission was made to the NPMS prior to December 17, 2001, and no pipeline system modifications have occurred, send an email to opsgis@rspa.dot.gov stating that fact. If a complete data submission was made to the NPMS on or after December 17, 2001, and if pipeline system modifications representing more than 5% of the total system mileage to be submitted to the NPMS have occurred, submit new complete data by June 17, 2003. If changes to the data submitted on or after December 17, 2001, affect less than 5% of the total system mileage submitted to the NPMS, submit an email to opsgis@rspa.dot.gov stating that fact by June 17, 2003. If only a partial data submission was made to the NPMS, before or after December 17, 2001, submit complete data to the NPMS by June 17, 2003. For LNG facilities, if any modifications to previously submitted data have occurred, submit new complete data by June 17, 2003. System modifications include pipelines or LNG facilities added or removed from a pipeline system and changes to any of the NPMS attributes (e.g., operator name, system name, commodity, status, etc.).

Pipeline operators may submit updated data in one of two ways depending on the format of their submission. For digital data, submit replacement data for an entire system. It is easier for pipeline operators submitting digital data to submit the entire pipeline system rather than making a partial update submission. In this case, all data that was previously submitted under the same operator ID will be updated with the new submission. For paper maps, submit replacement maps for those portions of a pipeline system that have changed. This option is available only for those pipeline operators who have to submit hard-copy maps.

Subsection (a)(2): Regardless of prior complete or partial data submissions to the NPMS, provide pipeline operator contact information for the pipelines submitted to the NPMS. The pipeline operator should identify and submit to the NPMS, contact information that the Office of Pipeline Safety will make available to the public for its' use in contacting the operator. The format and procedures for submitting this contact information is available on the NPMS website and in the NPMS operator standards document.

Subsection (a)(3): OPS is developing an Internet-based tool that will allow the public to identify pipeline operators within a specific geographic area. The information provided to the NPMS under subsection (a)(2) will allow the public to contact pipeline operators with questions regarding their pipelines. The Internet-based tool will display a list of operator contacts, within the geographic area specified by the user, but will not render a map of the pipelines.

Subsection (b): Updates—Once a submission is made to comply with the June 17, 2003, statutory deadline, operators are required to make update submissions every twelve (12) months if any system modifications have occurred. If no modifications have occurred since the last complete submission (including operator contact information), send an email to opsgis@rspa.dot.gov stating that fact. Include operator contact information with all updates. Pipeline operators may update previous NPMS submissions in one of two ways. For digital data, submit replacement data for an entire system. For paper maps, submit replacement maps for those portions of pipeline systems that have changed. This option is available only for those pipeline operators who have to submit paper maps.

II. Advisory Bulletin (ADB-03-02)

To: Owners and Operators of Natural Gas Transmission and Hazardous Liquid Pipeline Systems.

Subject: Required Submission of Data to the National Pipeline Mapping System Under the Pipeline Safety Improvement Act of 2002.

Purpose: To advise pipeline operators of their responsibilities in complying with the Pipeline Safety Improvement Act of 2002. This bulletin describes the process for making new submissions of geospatial and operator contact information and updating previous submissions to the National Pipeline Mapping System (NPMS).

Advisory: Subsection (a): Submit geospatial and contact information in accordance with the guidelines set forth in the NPMS standards document entitled “National Pipeline Mapping System Standards for Pipeline and Liquefied Natural Gas Operator Submissions' dated 2003. The operators standards document is available for download from the NPMS website at http://www.npms.rspa.dot.gov/submissions/standards.htm.

Subsection (a)(1): If a complete data submission was made to the NPMS prior to December 17, 2001, and any pipeline system modifications have occurred since the last submission, submit complete data to the NPMS by June 17, 2003. If a complete data submission was made to the NPMS prior to December 17, 2001, and no pipeline system modifications have occurred, send an email to opsgis@rspa.dot.gov stating that fact. If a complete data submission was made to the NPMS on or after December 17, 2001, and if pipeline system modifications representing more than 5% of the total system mileage to be submitted to the NPMS have occurred, submit new complete data by June 17, 2003. If changes to the data submitted on or after December 17, 2001, affect less than 5% of the total system mileage submitted to the NPMS, submit an email to opsgis@rspa.dot.gov stating that fact by June 17, 2003. If only a partial data submission was made to the NPMS, before or after December 17, 2001, submit complete data to the NPMS by June 17, 2003. For LNG facilities, if any modifications since the last submission have occurred, submit new complete data by June 17, 2003.

Subsection (a)(2): Regardless of prior geospatial submissions to the NPMS, submit contact information for the pipelines represented in geospatial data submitted to the NPMS. The format for submitting this contact information is available in the NPMS operator standards document. This contact information will be in the public domain.

Subsection (a)(3): OPS is developing an Internet-based tool that will allow the public to identify pipeline operators within a specific geographic area. The information provided to the NPMS under subsection (a)(2) will allow the public to contact pipeline operators with questions regarding their pipelines. The Internet-based tool will display a list of operator contacts, within the geographic area specified by the user, but will not render a map of the pipelines.

Subsection (b): Once a submission is made to comply with the June 17, 2003, statutory deadline, operators are required to make update submissions every 12 months if any system modifications have occurred. If no modifications have occurred since the last complete submission (including operator contact information), send an email to opsgis@rspa.dot.gov stating that fact. Include operator contact information with all updates.

Issued in Washington, DC on January 24, 2003.
Stacey L. Gerard,
Associate Administrator for Pipeline Safety.

[FR Doc. 03-2449 Filed 1-31-03; 8:45 am]

BILLING CODE 4910-60-P